DEPARTMENT OF HEALTH AND HUMAN SERVICES

Centers for Disease Control and Prevention

Radiation and Worker Health Advisory Board Meeting; Correction

In accordance with section 10(a)(2) of the Federal Advisory Committee Act (Pub. L. 92-463), the Centers for Disease Control and Prevention (CDC) announces the following committee meeting:

AGENCY: Advisory Board on Radiation and Worker Health (ABRWH), National Institute for Occupational Safety and Health (NIOSH), HHS.

ACTION: Correction.

Correction: In the Federal Register of November 17, 2003, in DOCID: fr17no03-102, Volume 68, Number 221, Page 64902, concerning the purpose for closing a portion of the meeting of the Advisory Board on Radiation and Worker Health, the notice cited an incorrect reason for the meeting closure. Correct “Matters to be Discussed” to read:

The closed portion of the meeting on the afternoon of December 10th will involve a review and discussion of the Independent Government Cost Estimate (IGCE) for task order contracts and proposals of work for the performance of these task order contracts, which could lead to a revision of the IGCE. These contracts will serve to provide technical support consultation to assist the ABRWH in fulfilling its statutory duty to advise the Secretary of Health and Human Services on the scientific validity and quality of dose estimation and reconstruction efforts under the Energy Employees Occupational Illness Compensation Program Act. These discussions will include reviews of the technical proposals to determine adequacy of the proposed approach, and associated contract cost estimates.

This portion of the meeting will be closed to the public in accordance with provisions set forth regarding subject matter considered confidential under the terms of 5 U.S.C. 552b(c)(9)(B), 48 CFR 5.401(b)(1) and (4), and 48 CFR 7.304(d)., and the Determination of the Director of the Management and Services Office, Centers for Disease Control and Prevention, pursuant to Pub. L. 92-463.

FOR FURTHER INFORMATION CONTACT: Larry Elliott, Executive Secretary, ABRWH, NIOSH, CDC, 4676 Columbia Parkway, Cincinnati, Ohio 45226, telephone (513) 533-6825, fax (513) 533-6826.

The Director, Management Analysis and Services Office, has been delegated the authority to sign Federal Register notices pertaining to announcements of meetings and other committee management activities for both the Centers for Disease Control and Prevention and the Agency for Toxic Substances and Disease Registry.

Dated: December 5, 2003.
Alvin Hall,
Director, Management Analysis and Services Office, Centers for Disease Control and Prevention (CDC).

[FR Doc. 03-30681 Filed 12-9-03; 8:45 am]

BILLING CODE 4163-19-P